SECURITIES AND EXCHANGE COMMISSION

[OMB Control No. 3235-0110]

Proposed Collection; Comment Request; Extension: Form T-1—Statement of Eligibility and Qualification Under the Trust Indenture Act of 1939 of a Corporation Designated To Act as a Trustee

Upon Written Request, Copies Available From: Securities and Exchange Commission, Office of FOIA Services, 100 F Street NE, Washington, DC 20549-2736

Notice is hereby given that, pursuant to the Paperwork Reduction Act of 1995 (44 U.S.C. 3501 et seq.), the Securities and Exchange Commission (“Commission”) is soliciting comments on the collection of information summarized below. The Commission plans to submit this existing collection of information to the Office of Management and Budget for extension and approval.

Form T-1 (17 CFR 269.1) is a statement of eligibility and qualification under the Trust Indenture Act of 1939 (15 U.S.C. 77aaa et seq.) of a corporation designated to act as a trustee under an indenture. The information is used to determine whether the corporation is qualified to serve as a trustee. We estimate that Form T-1 takes approximately 15 hours per response and that there is an average of approximately 2 responses annually. We estimate that 25% of the 15 hours per response is prepared by the company for an internal burden of 8 hours ((0.25 × 15) hours per response × 2 responses).

An agency may not conduct or sponsor, and a person is not required to respond to, a collection of information unless it displays a currently valid OMB Control Number.

Written comments are invited on: (a) whether this collection of information is necessary for the proper performance of the functions of the agency, including whether the information will have practical utility; (b) the accuracy of the agency's estimate of the burden imposed by the collection of information; (c) ways to enhance the quality, utility, and clarity of the information collected; and (d) ways to minimize the burden of the collection of information on respondents, including through the use of automated collection techniques or other forms of information technology. Consideration will be given to comments and suggestions submitted in writing within 60 days of this publication by May 12, 2025.

Please direct your written comment to Austin Gerig, Director/Chief Data Officer, Securities and Exchange Commission, c/o Tanya Ruttenberg, 100 F Street NE, Washington, DC 20549 or send an email to: PaperworkReductionAct@sec.gov.

Dated: March 6, 2025.
Vanessa A. Countryman,
Secretary.

[FR Doc. 2025-03861 Filed 3-10-25; 8:45 am]

BILLING CODE 8011-01-P